ENVIRONMENTAL PROTECTION AGENCY

[Docket A-2001-13; FRL 6992-9]

Clean Air Act Operating Permit Program; Petitions for Objection to State Operating Permit for Orange Recycling and Ethanol Production Facility Pencor-Masada Oxynol, LLC; Orange County; Middletown, NY

AGENCY: Environmental Protection Agency (EPA).

ACTION: Notice of final order on petitions to object to State operating permit.

SUMMARY: This document announces that the EPA Administrator has partially granted and partially denied petitions to object to a State operating permit issued by the New York State Department of Environmental Conservation (NYSDEC) to the Orange Recycling and Ethanol Production Facility (Facility), proposed by Pencor-Masada Oxynol, LLC (Masada) for construction and operation in Middletown, NY. Pursuant to section 505(b)(2) of the Clean Air Act (Act), petitioners may seek judicial review of those portions of the petitions which EPA denied in the United States Court of Appeals for the appropriate circuit within 60 days of this decision under section 307 of the Act.

ADDRESSES: You may review copies of the final order, the petitions, and other supporting information at the EPA, Region 2, 290 Broadway, New York, New York 10007-1866. If you wish to examine these documents, you should make an appointment at least 24 hours before visiting day.

The final order is also available electronically at the following address: http://www.epa.gov/region07/programs/artd/air/title5/petitiondb/petitions/masada_decision2000.pdf

FOR FURTHER INFORMATION CONTACT: Steven C. Riva, Chief, Permitting Section, Air Programs Branch, Division of Environmental Planning and Protection, EPA, Region 2, 290 Broadway, 25th Floor, New York, New York 10007-1866, telephone (212) 637-4074.

SUPPLEMENTARY INFORMATION: The Act affords EPA a 45-day period to review, and object to as appropriate, operating permits proposed by State permitting authorities. Section 505(b)(2) of the Act authorizes any person to petition the EPA Administrator within 60 days after the expiration of this review period to object to State operating permits if EPA has not done so. Petitions must be based only on objections to the permit that were raised with reasonable specificity during the public comment period provided by the State, unless the petitioner demonstrates that it was impracticable to raise these issues during the comment period or the grounds for the issues arose after this period.

Between June and September, 2000, the EPA received 35 petitions from 29 different petitioners, requesting that EPA object to the issuance of the title V operating permit to the Facility owned and operated by Masada and located in the city of Middletown, Orange County, New York. Robert C. LaFleur, president of Spectra Environmental Group, Inc. (Spectra), submitted the most detailed petition. Spectra's petition raised many of the same issues posed by other petitioners. Other petitions were submitted by Lois Broughton, Wanda Brown, Louisa and George Centeno with Leslie Mongilia, Maria Dellasandro, R. Dimieri, Lori Dimieri, Dawn Evesfield, Marvin Feman, Deborah Glover, Anne Jacobs, Barbara Javalli-Lesiuk, Marie Karr, June Lee, Ruth MacDonald, Bernice Mapes, Donald Maurizzio, Alice Meola, Daniel Nebus, Jeanette Nebus, Mr. and Mrs. Hillary Ragin, M. Schoonover, Mildred Sherlock, LaVinnie Sprague, Matthew Sprague, Hubert van Meurs, Alfred and Catherine Viggiani, Paul Weimer and Leonard Wodka.

The petitions with respect to this facility raised a number of distinct claims, characterized as either administrative/public participation issues or technical/regulatory issues. The petitioners alleged that the NYSDEC did not comply with the applicable public participation requirements in issuing the Masada permit because NYSDEC did not: (1) Notify the public of the extended opportunity for comment; (2) make available to the public requisite information necessary to review the permit; (3) offer the public an opportunity to comment on significant changes to the draft permit; (4) properly inform the public of its right to petition to the EPA Administrator; (5) substantively review public comments; (6) grant requests for a second public hearing, and (7) translate the public notices and key documents for the non-English speaking members of the community. The petitioners also assert that the Masada permit did not comply with the applicable technical/regulatory requirements in that the permit: (1) Fails to assure compliance with major source preconstruction permitting requirements under the Act; (2) does not assure compliance with several allegedly applicable federal emissions standards, (3) omits required provisions governing chemical accident prevention requirements, namely section 112(r) of the Act and EPA's implementing regulations at 40 CFR part 68, and (4) does not comply with the Executive Order 12898 on environmental justice.

On May 2, 2001, the Administrator issued an order partially granting and partially denying the petitions. The order explains the reasons behind EPA's conclusion that NYSDEC must provide an opportunity for public review of certain operational requirements in the final permit issued to Masada, namely the methodology which limits the potential annual emissions of NOX and SO2 from the facility. The order also requires the inclusion of certain provisions of the New Source Performance Standards (NSPS) for Industrial, Commercial and Institutional Steam Generating Units, specifically the applicable reporting and recordkeeping requirements of NSPS Subpart Db. The order provides an explanation on the reasons for denying the petitioners' remaining claims.

Date: May 24, 2001.
William J. Muszynski,
Acting Regional Administrator, Region 2.

[FR Doc. 01-14482 Filed 6-7-01; 8:45 am]

BILLING CODE 6560-50-P